DEPARTMENT OF HOMELAND SECURITY

Coast Guard

33 CFR Part 117

[Docket No. USCG-2014-0570]

Drawbridge Operation Regulations; Norwalk River, Norwalk, CT

AGENCY: Coast Guard, DHS.

ACTION: Notice of deviation from drawbridge regulations.

SUMMARY: The Coast Guard has issued a temporary deviation from the operating schedule that governs the Metro North WALK Bridge across the Norwalk River, mile 0.1, at Norwalk, Connecticut. The deviation is necessary to facilitate necessary maintenance and repairs to the electrical and mechanical operating systems at the bridge. This temporary deviation authorizes the bridge to open after an eight-hour advance notice is given under a revised operating schedule.

DATES: This deviation is effective without actual notice from July 17, 2014 through December 30, 2014. For the purposes of enforcement, actual notice will be used on July 4, 2014, until July 17, 2014.

ADDRESSES: The docket for this deviation, [USCG-2014-0570] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Christopher J. Bisignano, Supervisory Bridge Management Specialist, First Coast Guard District, Christopher.J.Bisignano@uscg.mil or (212) 668-7021. If you have questions on viewing the docket, call Cheryl Collins, Program Manager, Docket Operations, telephone 202-366-9826.

SUPPLEMENTARY INFORMATION: The Metro North WALK Bridge, mile 0.1, across the Norwalk River at Norwalk, Connecticut, has a vertical clearance in the closed position of 16 feet at mean high water and 23 feet at mean low water. The drawbridge operation regulations are listed at 33 CFR 117.217(b).

The waterway users are seasonal recreational vessels and commercial vessels of various sizes.

The owner of the bridge, Connecticut Department of Transportation, requested a temporary deviation from the regulations from July 4, 2014 through December 30, 2014, to allow the bridge to open after an eight-hour advance notice is given to help facilitate necessary electrical and mechanical maintenance and repairs at the bridge.

The Coast Guard will work with Connecticut Department of Transportation and Metro North to develop a long term repair schedule during this initial temporary deviation time period.

Under this temporary deviation, in effect from July 4, 2014 through December 30, 2014, the Metro North WALK Bridge at mile 0.1, across the Norwalk River, at Norwalk, Connecticut shall open after at least an eight-hour advance notice is given as follows:

(1) From 10 a.m. to 2 p.m., a maximum of one opening each day Monday through Friday, excluding holidays.

(2) From 9 p.m. to 3 a.m., a maximum of two openings each night, starting on Monday at 9 p.m. through Friday at 3 a.m. including holidays.

(3) From 9 p.m. Fridays to 3 a.m. Mondays, including holidays.

(4) For emergencies only at all other times.

(5) A delay of up to 20 minutes may be expected if a train is approaching so closely that it may not be safely stopped.

Vessels that can pass under the bridge in the closed position may do so at any time. There are no alternate routes. The bridge can open in the event of an emergency situation.

Vessel operators will be notified of these changes to the bridge operating schedule through a Local Notice to Mariners publication and a Safety Marine Information Broadcast (SMIB) issued by the Coast Guard so that vessels can arrange their transits to minimize any impact caused by the temporary deviation.

In accordance with 33 CFR 117.35(e), the drawbridge must return to its regular operating schedule immediately at the end of the effective period of this temporary deviation. This deviation from the operating regulations is authorized under 33 CFR 117.35.

Dated: July 1, 2014.
Linda L. Fagan,
Rear Admiral, U.S. Coast Guard, Commander, First Coast Guard District.

[FR Doc. 2014-16842 Filed 7-16-14; 8:45 am]

BILLING CODE 9110-04-P